DEPARTMENT OF TRANSPORTATION

Federal Aviation Administration

Twenty Ninth RTCA SC-222 AMS(R)S Systems Plenary

AGENCY: Federal Aviation Administration (FAA), U.S. Department of Transportation (DOT).

ACTION: Twenty Ninth RTCA SC-222 AMS(R)S Systems Plenary.

SUMMARY: The FAA is issuing this notice to advise the public of a meeting of Twenty Ninth RTCA SC-222 AMS(R)S Systems Plenary.

DATES: The meeting will be held June 26-27, 2018 8:00 a.m.-12:00 p.m.

ADDRESSES: The meeting will be virtual: https://rtca.webex.com/rtca/j.php?MTID=m34615225fb4b3b129ffe28678abfaf1f; Meeting number (access code): 634 103 481; Meeting password: KiwuMUi6.

FOR FURTHER INFORMATION CONTACT: Karan Hofmann at khofmann@rtca.org or 202-330-0680, or The RTCA Secretariat, 1150 18th Street NW, Suite 910, Washington, DC, 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Twenty Ninth RTCA SC-222 AMS(R)S Systems Plenary. The agenda will include the following:

Tuesday, June 26, 2018

1. Welcome, Introductions, Administrative Remarks By Special Committee Leadership

Designated Federal Officer (DFO): Mr. David Robinson

Chair RTCA-SC222: Dr. Chuck Laberge, Laberge Engineering

Chair EUROCAE WG-82: Dr. Armin Schlereth, DFS

2. Agenda Overview

3. Review/Approve Prior Plenary Meeting Summary—(Action Item Status)

4. Coordination With Other Groups (EUROCAE, RTCA, ICAO, SESAR, AEEC)

5. Discussion Of SATCOM Performance Structure (FAA-DFO)

6. SATCOM Co-Site Interference (AIRBUS)

6.1 SATCOM Performance Class B Interference With GNSS

6.2 SATCOM Interference Between Inmarsat And Iridium

7. ATN Over SATCOM—Transition Aspects

8. EASA RMT.0524 Aspects

9. Industry Presentations

10. SC-228 ISRA Discussion

11. Updates On DO-343B/ED-242A And DO-262D/ED-243A

12. Detailed Work Plan For SC-222 And WG-82

13. Establish Agenda, Date And Place For Next Meeting

14. Review Of Action Items

15. Adjourn—Plenary Meeting

Wednesday, June 27, 2018

Continuation Of Plenary Agenda Items

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 22, 2018.
Michelle Swearingen,
Management and Program Analyst, Systems and Equipment Standards Branch, AIR-6B0, Policy and Innovation Division, AIR-600, Federal Aviation Administration.

[FR Doc. 2018-11364 Filed 5-25-18; 8:45 am]

BILLING CODE 4910-13-P